DEPARTMENT OF COMMERCE

National Oceanic and Atmospheric Administration

RIN 0648-XC713

Caribbean Fishery Management Council; Public Meeting

AGENCY: National Marine Fisheries Service (NMFS), National Oceanic and Atmospheric Administration (NOAA), Commerce.

ACTION: Notice of a public meeting.

SUMMARY: The Caribbean Fishery Management Council (Council) will hold a meeting.

DATES: The meeting will be held on Monday, June 24, 2013, from 9:00: a.m. to 5 p.m.

ADDRESSES: The meeting will be held at the Verdanza Hotel, 8020 Tartak St. Isla Verde, Puerto Rico 00909.

FOR FURTHER INFORMATION CONTACT: Caribbean Fishery Management Council, 270 Muñoz Rivera Avenue, Suite 401, San Juan, Puerto Rico 00918; telephone: (787) 766-5926.

SUPPLEMENTARY INFORMATION: The Council will hold its 146th regular Council Meeting to discuss the items contained in the following agenda:

June 24, 2013, 9 a.m.-5 p.m.

• Call to Order

• Adoption of Agenda

• Consideration of 145th Council Meeting Verbatim Transcriptions

• Executive Director's Report

• SSC Report on:

—Review and comment on the final stock assessment reports for SEDAR 30 U.S. Caribbean Queen triggerfish.

—Review SEFSC re-analysis of queen and silk snapper based on SEDAR 26 data, including reviewing the assumptions of the new analysis and the most appropriate application of a control rule that would allow the estimation of quantitative ACL advice.

• Final action by CFMC on any changes to the 2013 queen snapper closed season.

• MONF3 Findings.

PUBLIC COMMENT PERIOD (5-minute presentations)

• Other Business

• Next Council Meeting

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone: (787) 766-5926, at least 5 days prior to the meeting date.

Dated: May 30, 2013.
William D. Chappell,
Acting Deputy Director, Office of Sustainable Fisheries, National Marine Fisheries Service.

[FR Doc. 2013-13143 Filed 6-3-13; 8:45 am]

BILLING CODE 3510-22-P